COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds a service to the Procurement List that will be furnished by nonprofit agencies employing persons who are blind or have other severe disabilities, and deletes products and services from the Procurement List previously furnished by such agencies.

DATES: Date added to and deleted from the Procurement List: June 16, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 4/5/2019, the Committee for Purchase From People Who Are Blind or Severely Disabled published notice of proposed addition to the Procurement List.

After consideration of the material presented to it concerning capability of qualified nonprofit agencies to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 8501-8506) in connection with the service proposed for addition to the Procurement List.

End of Certification

Accordingly, the following service is added to the Procurement List:

Services

Service Type: Grounds Maintenance

Mandatory for: Federal Aviation Administration, Norfolk Air Traffic Control Tower, Virginia Beach, VA and Patrick Henry Field Air Traffic Control Tower, Newport News, VA

Mandatory Source of Supply: Portco, Inc., Portsmouth, VA

Contracting Activity: FEDERAL AVIATION ADMINISTRATION, FAA, REGIONAL ACQUISITIONS SERVICES

Service Type: Grounds Maintenance

Mandatory for: Federal Aviation Administration, Patrick Henry Field (PHF) Air Traffic Control Tower, Newport News, VA

Mandatory Source of Supply: VersAbility Resources, Inc., Hampton, VA

Contracting Activity: FEDERAL AVIATION ADMINISTRATION, FAA, REGIONAL ACQUISITIONS SERVICES

Deletions

On 4/12/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

NSN(s)—Product Name(s): 7045-01-442-1631—Diskettes, Formatted, 1.44 MB, 3.5″

Mandatory Source of Supply: North Central Sight Services, Inc., Williamsport, PA

Contracting Activity: GSA/FAS ADMIN SVCS ACQUISITION BR(2, NEW YORK, NY

NSN(s)—Product Name(s): 7045-01-442-1631—Diskettes, Formatted, 1.44 MB, 3.5″

Mandatory Source of Supply: North Central Sight Services, Inc., Williamsport, PA

8105-01-J19-2073—Bag, Plastic

8105-01-J19-2071—Bag, Plastic

Mandatory Source of Supply: Envision, Inc., Wichita, KS

8465-00-965-2175—Binding, Snowshoe, Universal

Mandatory Source of Supply: RLCB, Inc., Raleigh, NC

8465-00-965-2175—Binding, Snowshoe, Universal

Mandatory Source of Supply: Winston-Salem Industries for the Blind, Inc., Winston-Salem, NC

Contracting Activity: DLA TROOP SUPPORT, PHILADELPHIA, PA

NSN(s)—Product Name(s): 7045-01-570-8901—Privacy Filter, Notebook, 13.3″ Widescreen

Mandatory Source of Supply: Wiscraft, Inc., Milwaukee, WI

7530-01-600-7595—Weekly Desk Planner, Dated 2019, Wire Bound, Non-refillable, Black Cover

7530-01-600-7618—Monthly Desk Planner, Dated 2019, Wire Bound, Non-refillable, Black Cover

7530-01-600-7586—Daily Desk Planner, Dated 2019, Wire bound, Non-refillable, Black Cover

7530-01-600-7610—Weekly Planner Book, Dated 2019, 5″ x 8″, Black

7510-01-600-7572—Monthly Wall Calendar, Dated 2019, Jan-Dec, 8½″ x 11″

7510-01-600-7566—Wall Calendar, Dated 2019, Wire Bound w/hanger, 15.5″ x 22″

Mandatory Source of Supply: Chicago Lighthouse Industries, Chicago, IL

Contracting Activity: GSA/FAS ADMIN SVCS ACQUISITION BR(2, NEW YORK, NY

NSN(s)—Product Name(s): 7510-01-600-8025—Dated 2019 12-Month 2-Sided Laminated Wall Planner, 24″ x 37″

Mandatory Source of Supply: Chicago Lighthouse Industries, Chicago, IL

Contracting Activity: GSA/FAS FURNITURE SYSTEMS MGT DIV, PHILADELPHIA, PA

NSN(s)—Product Name(s): 7045-01-570-8901—Privacy Filter, Notebook, 13.3″ Widescreen

Mandatory Source of Supply: Wiscraft, Inc., Milwaukee, WI

Contracting Activity: STRATEGIC ACQUISITION CENTER, FREDERICKSBURG, VA

NSN(s)—Product Name(s): MR 10736—Sandwich Saver, Licensed, Includes Shipper 20735

Mandatory Source of Supply: Winston-Salem Industries for the Blind, Inc., Winston-Salem, NC

MR 1066—Pad, Cleaning, Refill, Mop, Spray

Mandatory Source of Supply: Industries for the Blind and Visually Impaired, Inc., West Allis, WI

Contracting Activity: Military Resale-Defense Commissary Agency

Service Type: Vehicle Washing Service

Mandatory for: General Services Administration: Fleet Management Division, Region 2 Virgin Islands & Puerto Rico

Mandatory Source of Supply: The Corporate Source, Inc., Garden City, NY

Contracting Activity: FEDERAL ACQUISITION SERVICE, GSA/FSS REGIONAL FLEET MGT OFC

Service Type: Microfilm Reproduction

Mandatory for: Bangor Naval Submarine Base, Bangor, WA

Contracting Activity: DEPT OF THE NAVY, U.S. FLEET FORCES COMMAND

Service Type: Janitorial/Custodial

Mandatory for: Fort Hood: Physical Fitness Centers in Buildings 9301, 12018, 23001, 24006, 31006, 37017, 39008, 87019 and 91073

Mandatory Source of Supply: World Technical Services, Inc., San Antonio, TX

Service Type: Janitorial/Grounds Maintenance

Mandatory for: Buffumville Lake: Hodges Village Dam, Oxford, MA

Contracting Activity: DEPT OF THE ARMY, W40M RHCO-ATLANTIC USAHCA

Service Type: Facility Management, Grounds Maintenance Service

Mandatory for: Fort Shafter, HI

Helemano Military Reservation, Wahiawa, HI

Schofield Barracks, Schofield, HI

Tripler Army Medical Center, Tripler AMC, HI

Wheeler Army Air Field, Schofield, HI

Mandatory Source of Supply: Goodwill Contract Services of Hawaii, Inc., Honolulu, HI

Contracting Activity: DEPT OF THE ARMY, 0413 AQ HQ

Service Type: Janitorial/Custodial

Mandatory for: U.S. Coast Guard, Yerba Buena Island, Building 278, San Francisco, CA

Mandatory Source of Supply: Toolworks, Inc., San Francisco, CA

Contracting Activity: U.S. COAST GUARD, BASE ALAMEDA

Service Type: Vehicle Registration Service

Mandatory for: River's Building, Information Center and: Mail Provost Marshall's Office

Mandatory Source of Supply: Training, Rehabilitation, & Development Institute, Inc., San Antonio, TX

Contracting Activity: DEPT OF THE ARMY, W6QM MICC-FDO FT HOOD

Service Type: Janitorial/Custodial

Mandatory for: Kilauea Armed Forces Recreation Center, Island of Hawaii, HI

Mandatory Source of Supply: The ARC of Hilo, Hilo, HI

Contracting Activity: DEPT OF THE ARMY, W40M RHCO-ATLANTIC USAHCA

Service Type: Janitorial/Custodial

Mandatory for: U.S. Army Reserve Center: 3810 McIntyre Avenue, Eau Claire, WI

Mandatory Source of Supply: L. E. Phillips Career Development Center, Inc., Eau Claire, WI

Contracting Activity: DEPT OF THE ARMY, W6QM MICC FT MCCOY (RC)

Service Type: Grounds Maintenance

Mandatory for: U.S. Army Reserve Center: Worcester

Mandatory Source of Supply: Seven Hills Occupational & Rehabilitation Services, Inc., Worcester, MA

Contracting Activity: DEPT OF THE ARMY, W6QM MICC CTR-FT DIX (RC)

Service Type: Janitorial/Custodial

Mandatory for: U.S. Army Reserve Center: 4900 South Lancaster Road, Dallas, TX

Mandatory Source of Supply: On Our Own Services, Inc., Houston, TX

Contracting Activity: DEPT OF THE ARMY, W40M RHCO-ATLANTIC USAHCA

Service Type: Janitorial/Custodial

Mandatory for: U.S. Army Reserve Center: 7 West Delaware Avenue, Marcus Hook, PA

Contracting Activity: DEPT OF THE ARMY, W40M RHCO-ATLANTIC USAHCA

Service Type: Housekeeping Services

Mandatory for: Camp Edwards Billeting, Camp Edwards, MA

Mandatory Source of Supply: capeAbilities, Inc., Hyannis, MA

Contracting Activity: DEPT OF DEFENSE, DOD/OFF OF SECRETARY OF DEF (EXC MIL DEPTS)

Service Type: Installation Support Services

Mandatory for: Fort Hood, TX

Mandatory Source of Supply: Training, Rehabilitation, & Development Institute, Inc., San Antonio, TX

Contracting Activity: DEPT OF THE ARMY, W40M RHCO-ATLANTIC USAHCA

Service Type: Catering Service

Mandatory for: Military Entrance Processing Station, 2024 Ent Ave., Bldg. 799, Niagara Falls, NY

Mandatory Source of Supply: Niagara County Chapter, NYSARC, Niagara Falls, NY

Contracting Activity: DEPT OF THE ARMY, W6QM MICC-FT KNOX

Service Type: Janitorial/Custodial

Mandatory for: Charles E. Kelly Support Facility, Oakdale, PA

Mandatory Source of Supply: Hancock County Sheltered Workshop, Inc., Weirton, WV

Contracting Activity: DEPT OF THE ARMY, W6QM MICC CTR-FT DIX (RC)

Service Type: Janitorial/Custodial

Mandatory for: Ozark Lake Park: Pool #13 and Lake Dardanelle Area, Ozark, AR

Mandatory Source of Supply: Abilities Unlimited of Ft. Smith, Inc., Van Buren, AR

Contracting Activity: DEPT OF THE ARMY, W40M RHCO-ATLANTIC USAHCA

Service Type: Housekeeping Services

Mandatory for: Fort Custer Education Center, Augusta, MI

Mandatory Source of Supply: Navigations, Incorporated, Battle Creek, MI

Contracting Activity: DEPT OF THE ARMY, W7NF USPFO ACTIVITY MI ARNG

Service Type: Food Service

Mandatory for: Fort McPherson, GA

Mandatory Source of Supply: Bobby Dodd Institute, Inc., Atlanta, GA

Contracting Activity: DEPT OF THE ARMY, W40M RHCO-ATLANTIC USAHCA

Service Type: Custodial and Grounds Maintenance Services

Mandatory for: Border Patrol Sector HDQ, 3819 Patterson Road, New Orleans, LA

Mandatory Source of Supply: Louisiana Industries for the Disabled, Inc., Baton Rouge, LA

Contracting Activity: PUBLIC BUILDINGS SERVICE, BUILDING SERVICES TEAM

Service Type: Grounds Maintenance

Mandatory for: Segura U.S. Army Reserve Center: 301 Ascarate Park Road, El Paso, TX

Mandatory for: Dyer U.S. Army Reserve Center: 4100 Dyer Street, El Paso, TX

Mandatory Source of Supply: Let's Go To Work, El Paso, TX

Contracting Activity: DEPT OF THE ARMY, W6QM MICC-PRESIDIO (RC-W)

Service Type: Switchboard Operation

Mandatory for: Kirtland Air Force Base

Mandatory Source of Supply: LifeROOTS, Inc., Albuquerque, NM

Contracting Activity: DEPT OF THE AIR FORCE, FA9401 AFNWC PZI

Service Type: Janitorial/Custodial

Mandatory for: Department of Agriculture: The Animal and Plant Health Inspection Service Gulfport, MS

Mandatory Source of Supply: Mississippi Goodworks, Inc., Gulfport, MS

Contracting Activity: ANIMAL AND PLANT HEALTH INSPECTION SERVICE, DEPT OF AGRIC/ANIMAL AND PLANT HLTH INSP SVC

Service Type: Janitorial/Custodial

Mandatory for: Fort Pickett, VA

Mandatory Source of Supply: Goodwill Services, Inc, Richmond, VA

Contracting Activity: DEPT OF THE ARMY, W6QM MICC CTR-FT DIX (RC)

Service Type: Supply and Warehousing Service

Mandatory for: U.S. Army Corps of Engineers: 2600 East Carson Street, Pittsburgh, PA

Mandatory Source of Supply: Goodwill Commercial Services, Inc., Pittsburgh, PA

Contracting Activity: DEPT OF THE ARMY, W40M RHCO-ATLANTIC USAHCA

Service Type: Laundry Service

Mandatory for: Fort Richardson, AK

Mandatory Source of Supply: Relay Resources, Portland, OR

Contracting Activity: DEPT OF THE ARMY, W40M RHCO-ATLANTIC USAHCA

Service Type: Janitorial/Custodial

Mandatory for: Fort Belvoir: Billeting Building #81, VA

Mandatory Source of Supply: Didlake, Inc., Manassas, VA

Contracting Activity: DEPT OF THE ARMY, W40M RHCO-ATLANTIC USAHCA

Service Type: Contract Support Services

Mandatory for: Fort Hood, TX

Mandatory Source of Supply: Training, Rehabilitation, & Development Institute, Inc., San Antonio, TX

Contracting Activity: DEPT OF THE ARMY, W40M RHCO-ATLANTIC USAHCA

Service Type: Laborer, Multi-Tasks Support Services

Mandatory for: Fort Hood, TX

Mandatory Source of Supply: Professional Contract Services, Inc., Austin, TX

Contracting Activity: DEPT OF THE ARMY, W40M RHCO-ATLANTIC USAHCA

Service Type: Grounds Maintenance

Mandatory for: U.S. Army Reserve Center: 4900 South Lancaster Road, Dallas, TX

Mandatory Source of Supply: On Our Own Services, Inc., Houston, TX

Contracting Activity: DEPT OF THE ARMY, W6QM MICC-PRESIDIO (RC-W)

Service Type: Janitorial/Custodial

Mandatory for: U.S. Army Reserve Center: 50 East Street, Springfield, MA

Mandatory Source of Supply: Allied Community Services, Inc., Enfield, CT

Contracting Activity: DEPT OF THE ARMY, W6QM MICC-FT DIX (RC-E)

Service Type: Janitorial/Custodial

Mandatory for: U.S. Army Reserve Center: 200 Wintergreen Avenue, New Haven, CT

Mandatory Source of Supply: Allied Community Services, Inc., Enfield, CT

Contracting Activity: DEPT OF THE ARMY, W6QM MICC-FT DIX (RC-E)

Service Type: Grounds Maintenance, Janitorial/Custodial

Mandatory for: U.S. Army Reserve Center: 10031 E Northwest Highway, Dallas, TX

Mandatory Source of Supply: On Our Own Services, Inc., Houston, TX

Contracting Activity: DEPT OF THE ARMY, W40M RHCO-ATLANTIC USAHCA

Service Type: Grounds Maintenance Services

Mandatory for: US Army Reserve Center at Perimeter Park, Houston, TX

Mandatory Source of Supply: On Our Own Services, Inc., Houston, TX

Contracting Activity: DEPT OF THE ARMY, W6QM MICC-PRESIDIO (RC-W)

Service Type: Mailroom Operation

Mandatory for: U.S. Army Engineer District: L. Mendel Rivers Federal Building, Charleston, SC

Mandatory Source of Supply: Palmetto Goodwill Services, North Charleston, SC

Contracting Activity: DEPT OF THE ARMY, W40M RHCO-ATLANTIC USAHCA

Service Type: Administrative Services

Mandatory for: Sheppard AFB, 426 5th Avenue, Sheppard AFB, TX

Mandatory Source of Supply: Work Services Corporation, Wichita Falls, TX

Contracting Activity: DEPT OF THE AIR FORCE, FA3020 82 CONS LGC

Service Type: Document Image Conversion

Mandatory for: Patuxent River Naval Air Station: Aircraft Division, MD

Mandatory Source of Supply: The Center for Life Enrichment, Hollywood, MD

Contracting Activity: DEPT OF THE NAVY, U.S. FLEET FORCES COMMAND

Service Type: Janitorial/Custodial

Mandatory for: Automated Flight Service Station, Seattle, WA

Mandatory Source of Supply: Northwest Center, Seattle, WA

Contracting Activity: FEDERAL AVIATION ADMINISTRATION, DEPT OF TRANS

Service Type: Janitorial/Custodial

Mandatory for: United States Geological Survey Building: Colorado School of Mines, Golden, CO

Mandatory Source of Supply: Bayaud Industries, Inc., Denver, CO

Contracting Activity: OFFICE OF POLICY, MANAGEMENT, AND BUDGET, NBC ACQUISITION SERVICES DIVISION

Service Type: Facility Management, Grounds Maintenance Service

Mandatory for: Wheeler Army Air Field, Schofield, HI

Tripler Army Medical Center, Tripler AMC, HI

Schofield Barracks, Schofield, HI

Helemano Military Reservation, Wahiawa, HI

Fort Shafter, HI

Mandatory Source of Supply: Lanakila Pacific, Honolulu, HI

Contracting Activity: DEPT OF THE ARMY, 0413 AQ HQ

Service Type: Janitorial/Custodial

Mandatory for: Northwestern Bank Building,Washington, DC

Mandatory Source of Supply: Melwood Horticultural Training Center, Inc., Upper Marlboro, MD

Contracting Activity: FEDERAL PRISON SYSTEM, TERMINAL ISLAND, FCI

Patricia Briscoe,
Deputy Director, Business Operations (Pricing and Information Management).

[FR Doc. 2019-10277 Filed 5-16-19; 8:45 am]

BILLING CODE 6353-01-P